NATIONAL AERONAUTICS AND SPACE ADMINISTRATION

[Notice: 20-084]

Information Collection: NASA STEM Better Together: For Stakeholder Success

AGENCY: National Aeronautics and Space Administration (NASA).

ACTION: Notice and request for comments for a new information collection.

SUMMARY: The National Aeronautics and Space Administration, as part of its continuing effort to reduce paperwork and respondent burden, invites the general public and other Federal agencies to take this opportunity to comment on proposed and/or continuing information collections.

DATES: Comments are due by December 21, 2020.

ADDRESSES: Submit comments regarding this burden estimate or any other aspect of this collection of information, including suggestions for reducing this burden, to NASA through the Federal eRulemaking Portal at www.regulations.gov. Select the “Submit a Comment” link listed under this information collection. All submissions received must include the agency name, Docket ID number, and title for this Federal Register document. NASA's general policy is comments and other submissions from the public will be posted without any change, including any personal and/or business confidential information provided. To confirm receipt of your comment(s), please check www.regulations.gov approximately two to three days after submission to verify posting.

FOR FURTHER INFORMATION CONTACT: Requests for additional information or copies of the information collection instrument(s) and instructions should be directed to Roger Kantz, NASA Clearance Officer, 281-792-7885, or Roger.T.Kantz@nasa.gov.

SUPPLEMENTARY INFORMATION:

I. Abstract

This information is needed to register principal investigators for a conference is to bring together the Office of STEM Engagement's grantees using an interactive virtual platform. Attendees will have the opportunity to: (1) Learn more about priorities for the agency overall, its mission directors and the Office of STEM Engagement; (2) participate in sessions led by SMEs to increase their capacity to further NASA's mission and maximize their reach of students from all backgrounds. (3) Formally and informally collaborate and share best practices.

II. Methods of Collection

All participants will be provided a link to register electronically.

III. Data

Title: NASA STEM Better Together: For Stakeholder Success.

Type of review: Request for a new Information Collection.

Affected Public: Individuals.

Estimated Annual Number of Activities: 250.

Estimated Number of Respondents per Activity: 1.

Annual Responses: 250.

Estimated Time per Response: 5 minutes.

Estimated Total Annual Burden Hours: 20.8.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection.

Roger Kantz,
NASA PRA Clearance Officer.

[FR Doc. 2020-23190 Filed 10-19-20; 8:45 am]

BILLING CODE 7510-13-P